DEPARTMENT OF LABOR

Employment and Training Administration

Proposed Information Collection Request Submitted for Public Comment and Recommendations: Quantum Opportunity Program Demonstration Information Collection

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) of the U.S. Department of Labor (DOL) is soliciting comments concerning the proposed continuing collection of information for the Quantum Opportunity Program (QOP) Demonstration Evaluation.

A copy of the proposed information collection request (ICR) can be obtained by contacting the office listed below in the addressee section of this notice.

DATES: Submit comments on or before July 12, 2004.

ADDRESSES: Send comments to Eileen Pederson, U.S. Department of Labor, ETA/OPDER, Room N-5637, 200 Constitution Avenue, NW., Washington, DC 20210, (202) 693-3647 (this is not a toll-free number) or Pederson.eileen@dol.gov, or to fax: (202) 693-2766 (this is not a toll-free number).

FOR FURTHER INFORMATION CONTACT: Eileen Pederson, U.S. Department of Labor, ETA/OPDER, Room N-5637, 200 Constitution Avenue, NW., Washington, DC 20210, (202) 693-3647 (this is not a toll-free number) or Pederson.eileen@dol.gov, or to fax: (202) 693-2766 (this is not a toll-free number).

SUPPLEMENTARY INFORMATION:

I. Background

In July 1995, under authority of Title IV of the Job Training Partnership Act (JTPA), ETA, in partnership with the Ford Foundation, launched the QOP Demonstration (QOP) in seven sites: Cleveland, Ohio; Fort Worth, Texas; Houston, Texas; Memphis, Tennessee; Philadelphia, Pennsylvania; Washington, DC; and Yakima, Washington. The Office of Juvenile Justice and Delinquency Prevention of the U.S. Department of Justice (DOJ) provided financial support for gang-prevention and evaluation activities. The Planning and Evaluation Service of the Department of Education's (DoE) Office of the Under Secretary has provided information and guidance in support of the evaluation. This data collection covers outcome variables of interest to DOL, DOJ and DoE.

QOP provided mentoring, computer-assisted instruction, course-based tutoring, life skills training, and community service activities for high school students at risk of dropping out of school. A youth was eligible to participate in QOP if he or she attended a high school with a four-year dropout rate equal to or greater than 40 percent, was entering the ninth grade for the first time during either the 1995-1996 or 1996-1997 (in Washington, DC) academic year, and was in the lower two-thirds of the grade distribution for entering ninth graders, according to the grade point averages from the eighth grade. The demonstration is being evaluated based on its impacts on academic achievement, high school completion, and engagement in postsecondary education or training programs. The demonstration is also being evaluated based on its impacts on behaviors that are associated with barriers to achieving economic self-sufficiency and adults. Such behaviors include substance abuse, teen parenting, and criminal activity. Many components of the QOP model are elements promoted by the Workforce Investment Act and evaluative evidence of their potential effectiveness will support DOL efforts to develop policy guidance for workforce investment agencies on strategies for serving at-risk youth.

II. Desired Focus of Comments

Currently, ETA is soliciting comments concerning the proposed extension with revisions of the collection of information for the QOP Demonstration. ETA is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

A copy of the proposed information collection request can be obtained by contacting the office listed above in the addressee section of this notice.

III. Current Actions

This notice concerns the collection of outcome data from each member of the research sample, consisting of a treatment group and a control group, by means of a telephone survey.

Type of Review: Extension with Revision.

Agency: Employment and Training Administration, U.S. Department of Labor.

Title: Quantum Opportunity Program (QOP) Demonstration.

OMB Number: 1205-0397.

Affected Public: Individuals.

Cite/Reference/Form: A Quantum Opportunity Program telephone questionnaire.

Total Respondents: 1,052.

Frequency: The questionnaire will be administered once, in the fall/winter of 2004-2005.

Total Responses: 842.

Average Time per Response: The questionnaire is estimated to take 20 minutes to complete.

Estimated Total Burden Hours: 281 hours.

Total Burden Cost: The cost to participants to complete the questionnaire by telephone, based on the minimum wage of $5.15, is approximately $1,447.

Comments submitted in response to this Notice will be summarized and/or included in the request for Office of Management and Budget approval of the ICR; they will also become a matter of public record.

Dated: May 5, 2004.
Emily Stover DeRocco,
Assistant Secretary for Employment and Training.

[FR Doc. 04-10629 Filed 5-10-04; 8:45 am]

BILLING CODE 4510-30-P